DEPARTMENT OF THE INTERIOR

Bureau of Land Management

[UTU 0142168]

Public Land Order No. 7701; Modification of Public Land Order No. 3758; Utah

AGENCY: Bureau of Land Management, Interior.

ACTION: Public Land Order.

SUMMARY: This order establishes a 20-year term for a Public Land Order which withdrew 80 acres of public land from surface entry and mining and reserved it on behalf of the Bureau of Bureau of Reclamation for the Provo River Project. The land is still needed for the purpose for which it was withdrawn. The land will remain withdrawn from surface entry and mining but not from mineral and geothermal leasing or mineral material sales.

DATES: Effective Date: April 15, 2008.

FOR FURTHER INFORMATION CONTACT: Rhonda Flynn, BLM Utah State Office, 440 West 200 South, Suite 500, Salt Lake City, Utah 84101-1345, 801-539-4132.

SUPPLEMENTARY INFORMATION: The Bureau of Reclamation has determined that the land is still needed for reclamation purposes. A copy of the Public Land Order containing a legal description of the land involved is available from the Bureau of Land Management, Utah State Office at the address above.

Order

By virtue of the authority vested in the Secretary of the Interior by Section 204 of the Federal Land Policy and Management Act of 1976, 43 U.S.C. 1714 (2000), it is ordered as follows:

Public Land Order No. 3758 (30 FR 9542), which withdrew public land from surface entry and mining and reserved it on behalf of the Bureau of Reclamation for the Provo River Project, is hereby modified to expire 20 years from the effective date of this order unless, as a result of a review conducted before the expiration date pursuant to Section 204(f) of the Federal Land Policy and Management Act of 1976, 43 U.S.C. 1714(f) (2000), the Secretary determines that the withdrawal shall be extended.

Dated: March 25, 2008.
C. Stephen Allred,
Assistant Secretary—Land and Minerals Management.

[FR Doc. E8-8018 Filed 4-14-08; 8:45 am]

BILLING CODE 4310-MN-P